DEPARTMENT OF ENERGY

Federal Energy Regulatory Commission

[Docket No. RP04-91-000]

Questar Pipeline Company; Notice of Technical Conference

April 22, 2004.

Take notice that a technical conference will be held on Thursday, May 6, 2004, at 10 a.m., in a room to be designated at the offices of the Federal Energy Regulatory Commission, 888 First Street, NE., Washington, DC 20426. A technical conference is being held to address Commission staff's questions resulting from Questar's compliance filing and protesters' comments.

The parties should be prepared to discuss all issues raised by Questar's fuel-cost tracking filing made on November 28, 2003, including those related to lost and unaccounted for gas, and the appropriateness of including costs associated with the Kastler plant in Questar's transportation fuel charges.

Magalie R. Salas,
Secretary.

[FR Doc. E4-948 Filed 4-27-04; 8:45 am]

BILLING CODE 6717-01-P